DEPARTMENT OF VETERANS AFFAIRS

Advisory Committee on Cemeteries and Memorials; Notice of Meeting

The Department of Veterans Affairs (VA) gives notice under the Federal Advisory Committee Act, 5 U.S.C. Ch. 10, that the Advisory Committee on Cemeteries and Memorials will conduct meeting sessions to be held October 29-30, 2024. The meeting sessions will begin and end as follows:

Date(s): | Time(s): | Location(s) | Open to the public
October 29, 2024 | 9:00 a.m. to 2:45 p.m. Eastern Standard Time (EST) | Library of Congress Jefferson Building, Room J119, Washington, DC 20540 | Yes.
October 30, 2024 | 9:00 a.m. to 4:00 p.m. EST | Library of Congress Jefferson Building, Room J119, Washington, DC 20540 | Yes.

The meeting sessions are open to the public.

The purpose of the Committee is to advise the Secretary of Veterans Affairs on the administration of national cemeteries, soldiers' lots and plots, the selection of new national cemetery sites, the erection of appropriate memorials, and the adequacy of Federal burial benefits. The Committee makes recommendations to the Secretary regarding such activities.

On Wednesday, October 29, 2024, the agenda will include opening remarks from the Committee Chair, and other VA officials. There will be remarks by the Department of Veterans Affairs Chief of Staff, National Cemetery Administration Acting Under Secretary for Memorial Affairs, and updates from the Pension and Fiduciary Services, Veterans Benefits Administration, Survivor Assistance Memorial Support Office, Veterans Health Administration.

On Thursday, October 30, 2024, the agenda will include a tour and presentation on the Library of Congress, a briefing from the Director, National Archives and Administration, National Personnel Records Center, the status of committee recommendations, public comments, subcommittee updates, proposed recommendations, and open discussion. Additionally, time will be allotted for the public to provide comments starting at 2:45 p.m. EST and ending no later than 3:45 p.m. EST. The comment period may end sooner, if there are no comments presented or they are exhausted before the end time. Individuals interested in providing comments during the public comment period are allowed no more than three minutes for their statements.

Any member of the public seeking additional information should contact Ms. Faith Hopkins, Designated Federal Officer, at 202-603-4499. Please leave a voice mail message no later than close of business, October 25, 2024. The Committee will also accept written comments. Comments may be transmitted electronically to the Committee at faith.hopkins@va.gov. In the public's communications with the Committee, the writers must identify themselves and state the organizations, associations, or persons they represent.

Any member of the public who wishes to attend the meeting virtually, use the following Cisco Webex Meeting Link:

Join On Your Computer Or Mobile App: https://veteransaffairs.webex.com/veteransaffairs/j.php?MTID=m36c2db38720b307ba7761d97e03bb015.

Meeting number: 2819 557 6428

Password: MSvuV69Kf@7

Join by phone: (404) 397-1596

Access code: 281 955 76428

Dated: October 2, 2024.
Jelessa M. Burney,
Federal Advisory Committee Management Officer.

[FR Doc. 2024-23155 Filed 10-4-24; 8:45 am]

BILLING CODE 8320-01-P